INTERNATIONAL TRADE COMMISSION

[Investigation Nos. 701-TA-465 and 731-TA-1161 (Second Review)]

Certain Steel Grating From China

Determinations

On the basis of the record ¹ developed in the subject five-year reviews, the United States International Trade Commission (“Commission”) determines, pursuant to the Tariff Act of 1930 (“the Act”), that revocation of the countervailing duty and antidumping duty orders on certain steel grating from China would be likely to lead to continuation or recurrence of material injury to an industry in the United States within a reasonably foreseeable time.

¹ The record is defined in § 207.2(f) of the Commission's Rules of Practice and Procedure (19 CFR 207.2(f)).

Background

The Commission instituted these reviews on October 1, 2020 (85 FR 61981) and determined on January 4, 2021 that it would conduct expedited reviews (86 FR 19286, April 13, 2021).

The Commission made these determinations pursuant to section 751(c) of the Act (19 U.S.C. 1675(c)). It completed and filed its determinations in these reviews on May 19, 2021. The views of the Commission are contained in USITC Publication 5195 (May 2021), entitled Certain Steel Grating from China: Investigation Nos. 701-TA-465 and 731-TA-1161 (Second Review).

By order of the Commission.
Issued: May 19, 2021.
Lisa Barton,
Secretary to the Commission.

[FR Doc. 2021-10906 Filed 5-21-21; 8:45 am]

BILLING CODE 7020-02-P